DEPARTMENT OF ENERGY

Federal Energy Regulatory Commission

Combined Notice of Filings #1

Take notice that the Commission received the following electric rate filings:

Docket Numbers: ER10-1451-006.

Applicants: Jersey Central Power & Light.

Description: Notice of Non-Material Change in Status of Jersey Central Power & Light Company.

Filed Date: 7/29/22.

Accession Number: 20220729-5213.

Comment Date: 5 p.m. ET 8/19/22.

Docket Numbers: ER10-1467-007.

Applicants: Ohio Edison Company.

Description: Notice of Non-Material Change in Status of Ohio Edison Company.

Filed Date: 7/29/22.

Accession Number: 20220729-5215.

Comment Date: 5 p.m. ET 8/19/22.

Docket Numbers: ER10-1468-007.

Applicants: The Toledo Edison Company.

Description: Notice of Non-Material Change in Status of The Toledo Edison Company.

Filed Date: 7/29/22.

Accession Number: 20220729-5222.

Comment Date: 5 p.m. ET 8/19/22.

Docket Numbers: ER10-1469-007.

Applicants: The Cleveland Electric Illuminating Company.

Description: Notice of Non-Material Change in Status of The Cleveland Electric Illuminating Company.

Filed Date: 7/29/22.

Accession Number: 20220729-5218.

Comment Date: 5 p.m. ET 8/19/22.

Docket Numbers: ER10-1473-006.

Applicants: Pennsylvania Power Company.

Description: Notice of Non-Material Change in Status of Pennsylvania Power Company.

Filed Date: 7/29/22.

Accession Number: 20220729-5217.

Comment Date: 5 p.m. ET 8/19/22.

Docket Numbers: ER10-1474-006.

Applicants: Metropolitan Edison Company.

Description: Notice of Non-Material Change in Status of Metropolitan Edison Company.

Filed Date: 7/29/22.

Accession Number: 20220729-5214.

Comment Date: 5 p.m. ET 8/19/22.

Docket Numbers: ER10-1478-008.

Applicants: Pennsylvania Electric Company.

Description: Notice of Non-Material Change in Status of Pennsylvania Electric Company.

Filed Date: 7/29/22.

Accession Number: 20220729-5216.

Comment Date: 5 p.m. ET 8/19/22.

Docket Numbers: ER10-1511-009; ER10-1512-002; ER10-2010-007; ER10-2691-001.

Applicants: The Narragansett Electric Company, PPL Electric Utilities Corporation, Kentucky Utilities Company, Louisville Gas and Electric Company.

Description: Notice of Change in Status of Louisville Gas and Electric Company, et al.

Filed Date: 7/28/22.

Accession Number: 20220728-5230.

Comment Date: 5 p.m. ET 8/18/22.

Docket Numbers: ER10-2688-009.

Applicants: The Potomac Edison Company.

Description: Notice of Non-Material Change in Status of The Potomac Edison Company.

Filed Date: 7/29/22.

Accession Number: 20220729-5219.

Comment Date: 5 p.m. ET 8/19/22.

Docket Numbers: ER10-2728-008.

Applicants: Green Valley Hydro, LLC.

Description: Notice of Non-Material Change in Status of Green Valley Hydro, LLC.

Filed Date: 7/29/22.

Accession Number: 20220729-5209.

Comment Date: 5 p.m. ET 8/19/22.

Docket Numbers: ER10-310-004; ER10-2414-016; ER11-113-014; ER11-4694-010; ER12-1680-011; ER17-2084-004; ER20-967-002; ER21-44-004; ER22-937-001; ER22-938-001.

Applicants: New Market Solar ProjectCo 2, LLC, New Market Solar ProjectCo 1, LLC, Altavista Solar, LLC, Great Bay Solar II, LLC, Great Bay Solar 1, LLC, Minonk Wind, LLC, GSG 6, LLC, Sandy Ridge Wind, LLC, Old Trail Wind Farm, LLC, Algonquin Energy Services Inc.

Description: Notice of Non-Material Change in Status of Algonquin Energy Services Inc.

Filed Date: 7/28/22.

Accession Number: 20220728-5232.

Comment Date: 5 p.m. ET 8/18/22.

Docket Numbers: ER10-3297-017.

Applicants: Powerex Corporation.

Description: Notice of Change in Status of Powerex Corp.

Filed Date: 7/28/22.

Accession Number: 20220728-5228.

Comment Date: 5 p.m. ET 8/18/22.

Docket Numbers: ER12-273-002.

Applicants: Allegheny Energy Supply Company, LLC.

Description: Notice of Non-Material Change in Status of Allegheny Energy Supply Company, LLC.

Filed Date: 7/29/22.

Accession Number: 20220729-5207.

Comment Date: 5 p.m. ET 8/19/22.

Docket Numbers: ER13-2387-010; ER15-190-020; ER18-1343-013.

Applicants: Carolina Solar Power, LLC, Duke Energy Renewable Services, LLC, Duke Energy Florida, Inc.

Description: Notice of Non-Material Change in Status of Duke Energy Florida, LLC, et al.

Filed Date: 7/28/22.

Accession Number: 20220728-5225.

Comment Date: 5 p.m. ET 8/18/22.

Docket Numbers: ER21-1297-004.

Applicants: BigBeau Solar, LLC.

Description: Notice of Change in Status of BigBeau Solar, LLC.

Filed Date: 7/28/22.

Accession Number: 20220728-5231.

Comment Date: 5 p.m. ET 8/18/22.

Docket Numbers: ER22-874-002.

Applicants: Graphite Solar 1, LLC.

Description: Notice of Non-Material Change in Status of Graphite Solar 1, LLC.

Filed Date: 7/28/22.

Accession Number: 20220728-5226.

Comment Date: 5 p.m. ET 8/18/22.

Docket Numbers: ER22-1820-001.

Applicants: Alabama Power Company, Georgia Power Company, Mississippi Power Company, Southern Power Company.

Description: Compliance filing: Alabama Power Company submits tariff filing per 35: Amended and Restated IIC Compliance Filing (Gulf Exit) to be effective 7/13/2022.

Filed Date: 7/29/22.

Accession Number: 20220729-5119.

Comment Date: 5 p.m. ET 8/19/22.

Docket Numbers: ER22-1822-001.

Applicants: Alabama Power Company, Georgia Power Company, Mississippi Power Company.

Description: Compliance filing: Alabama Power Company submits tariff filing per 35: FP&L NITSA Compliance Filing (Gulf Exit) to be effective 7/13/2022.

Filed Date: 7/29/22.

Accession Number: 20220729-5129.

Comment Date: 5 p.m. ET 8/19/22.

Docket Numbers: ER22-1823-001.

Applicants: Alabama Power Company, Georgia Power Company, Mississippi Power Company.

Description: Compliance filing: Alabama Power Company submits tariff filing per 35: FPL (885 MW) Long-Term Firm PTP Agreement Compliance Filing (Gulf Exit) to be effective 6/1/2022.

Filed Date: 7/29/22.

Accession Number: 20220729-5132.

Comment Date: 5 p.m. ET 8/19/22.

Docket Numbers: ER22-1824-001.

Applicants: Alabama Power Company, Georgia Power Company, Mississippi Power Company.

Description: Compliance filing: Alabama Power Company submits tariff filing per 35: FPL (Daniel 1&2) Long-Term Firm PTP Agreement Compliance Filing (Gulf Exit) to be effective 7/13/2022.

Filed Date: 7/29/22.

Accession Number: 20220729-5141.

Comment Date: 5 p.m. ET 8/19/22.

Docket Numbers: ER22-1825-001.

Applicants: Alabama Power Company, Georgia Power Company, Mississippi Power Company.

Description: Compliance filing: Alabama Power Company submits tariff filing per 35: FPL (Scherer 3) Long-Term Firm PTP Agreement Compliance Filing (Gulf Exit) to be effective 7/13/2022.

Filed Date: 7/29/22.

Accession Number: 20220729-5145.

Comment Date: 5 p.m. ET 8/19/22.

Docket Numbers: ER22-1826-001.

Applicants: Alabama Power Company, Georgia Power Company, Mississippi Power Company

Description: Compliance filing: Alabama Power Company submits tariff filing per 35: FPL (Kingfisher I) Long-Term Firm PTP Agreement Compliance Filing (Gulf Exit) to be effective 7/13/2022.

Filed Date: 7/29/22.

Accession Number: 20220729-5150.

Comment Date: 5 p.m. ET 8/19/22.

Docket Numbers: ER22-1827-001.

Applicants: Alabama Power Company, Georgia Power Company, Mississippi Power Company.

Description: Compliance filing: Alabama Power Company submits tariff filing per 35: FPL (Kingfisher II) Long-Term Firm PTP Agreement Compliance Filing (Gulf Exit) to be effective 7/13/2022.

Filed Date: 7/29/22.

Accession Number: 20220729-5155.

Comment Date: 5 p.m. ET 8/19/22.

Docket Numbers: ER22-1835-001.

Applicants: Alabama Power Company, Mississippi Power Company, Georgia Power Company.

Description: Compliance filing: Alabama Power Company submits tariff filing per 35: OATT Attachment V Amendment Compliance Filing (Gulf Exit) to be effective 7/13/2022.

Filed Date: 7/29/22.

Accession Number: 20220729-5162.

Comment Date: 5 p.m. ET 8/19/22.

Docket Numbers: ER22-2522-000.

Applicants: Ledyard Windpower, LLC.

Description: § 205(d) Rate Filing: Rate Schedule FERC No. 1—Reactive Power Compensation to be effective 9/27/2022.

Filed Date: 7/28/22.

Accession Number: 20220728-5164.

Comment Date: 5 p.m. ET 8/18/22.

Docket Numbers: ER22-2523-000.

Applicants: Niagara Mohawk Power Corporation, New York Independent System Operator, Inc.

Description: § 205(d) Rate Filing: Niagara Mohawk Power Corporation submits tariff filing per 35.13(a)(2)(iii: 205: CRA between Niagara Mohawk and RG&E for Hook Road Station 127 Substation to be effective 6/30/2022.

Filed Date: 7/29/22.

Accession Number: 20220729-5032.

Comment Date: 5 p.m. ET 8/19/22.

Docket Numbers: ER22-2524-000.

Applicants: Southern California Edison Company.

Description: § 205(d) Rate Filing: Solar Star 3, LLC 1st Amendment to the LGIA (TOT795-SA235) to be effective 7/30/2022.

Filed Date: 7/29/22.

Accession Number: 20220729-5065.

Comment Date: 5 p.m. ET 8/19/22.

Docket Numbers: ER22-2525-000.

Applicants: Gridmatic Inc.

Description: Baseline eTariff Filing: MBR Tariff Application to be effective 7/30/2022.

Filed Date: 7/29/22.

Accession Number: 20220729-5070.

Comment Date: 5 p.m. ET 8/19/22.

Docket Numbers: ER22-2526-000.

Applicants: Avista Corporation.

Description: § 205(d) Rate Filing: Avista Corp Tariff 12 Revision to be effective 10/1/2022.

Filed Date: 7/29/22.

Accession Number: 20220729-5073.

Comment Date: 5 p.m. ET 8/19/22.

Docket Numbers: ER22-2528-000.

Applicants: Southern California Edison Company.

Description: § 205(d) Rate Filing: Solar Star 4 1st Amendment to the LGIA (TOT821/SA236) to be effective 7/30/2022.

Filed Date: 7/29/22.

Accession Number: 20220729-5089.

Comment Date: 5 p.m. ET 8/19/22.

Docket Numbers: ER22-2529-000.

Applicants: AM Wind Repower LLC.

Description: § 205(d) Rate Filing: Revised Market-Based Rate Tariff to be effective 7/30/2022.

Filed Date: 7/29/22.

Accession Number: 20220729-5093.

Comment Date: 5 p.m. ET 8/19/22.

Docket Numbers: ER22-2530-000.

Applicants: Powell River Energy Inc.

Description: § 205(d) Rate Filing: Revised Market-Based Rate Tariff to be effective 7/30/2022.

Filed Date: 7/29/22.

Accession Number: 20220729-5094.

Comment Date: 5 p.m. ET 8/19/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 29, 2022.
Debbie-Anne A. Reese,
Deputy Secretary.

[FR Doc. 2022-16731 Filed 8-3-22; 8:45 am]

BILLING CODE 6717-01-P